DEPARTMENT OF THE TREASURY

Internal Revenue Service

Senior Executive Service Performance Review Board

AGENCY: Internal Revenue Service (IRS), Department of the Treasury.

ACTION: Notice.

SUMMARY: To announce a list of senior executives who comprise a standing roster that will serve on IRS's Fiscal Year 2022 Senior Executive Service (SES) Performance Review Boards.

DATES: This list is effective September 1, 2022.

FOR FURTHER INFORMATION CONTACT: Sharnetta A. Walton, Director, Office of Executive Services at (202) 317-3817 or Malaika Green, Deputy Director, Office of Executive Services at (202) 317-3823, IRS, 1111 Constitution Avenue NW, Washington, DC 20224.

SUPPLEMENTARY INFORMATION: Pursuant to 5 U.S.C. 4314(c)(4), this board shall review and evaluate the initial appraisals of career senior executives' performance and provide recommendations to the appointing authority on performance ratings, pay adjustments and performance awards. The senior executives are as follows:

Victor M. Aledo-Garcia

David P. Alito

Todd A. Anthony

Shahid A. Babar

Scott A. Ballint

Robert J. Bedoya

Michael C. Beebe

Jennifer L. Best

Julia W. Caldwell

Carol A. Campbell

Anthony S. Chavez

Robert Choi

James P. Clifford

Amalia C. Colbert

Erin M. Collins

Lucinda J. Comegys

Kenneth C. Corbin

Robert S. Cox

Thomas A. Cullinan

Brenda A. Dial

Joseph Dianto

Donald C. Drake

Sheila A. Eason

Guy A. Ficco

James L. Fish

Sharyn M. Fisk

Nikole C. Flax

Julie A. Foerster

Jeff D. Gill

Linda K. Gilpin

Dietra D. Grant

Darren J. Guillot

Valerie A. Gunter

Todd L. Harber

Barbara Harris

Keith A. Henley

Robert E. Hill

John E. Hinding

John W. Hinman

Carrie Y. Holland

Karen S. Howard

Teresa R. Hunter

Scott E. Irick

Nikki C. Johnson

William H. Kea, Jr.

Lou Ann Y. Kelleher

Andrew J. Keyso, Jr.

Edward T. Killen

Melanie R. Krause

Kathleen M. Kruchten

James C. Lee

Tracy L. Lee

Ronald J. Leidner, Jr.

Terry L. Lemons

Sunita Lough

Robert W. Malone

Heather C. Maloy

Paul J. Mamo

Kevin Q. McIver

Karen A. Michaels

Kevin M. Morehead

Robin L. Moses

Bryan L. Musselman

Frank A. Nolden

Douglas W. O'Donnell

Victor G. Onorato

Deborah T. Palacheck

Kaschit D. Pandya

Holly O. Paz

Christopher J. Pleffner

Mark E. Pursley

Scott D. Reisher

Bridget T. Roberts

Richard L. Rodriguez

Clifford R. Scherwinski

Frederick W. Schindler

Paul E. Selby

Theodore D. Setzer

Verline A. Shepherd

Tracey L. Showman

Nancy A. Sieger

Susan A. Simon

Eric D. Slack

Harrison Smith

Tommy A. Smith

Guy A. Torres

Jeffrey J. Tribiano

Karen D. Truss

Kathleen E. Walters

Lavena B. Williams

Maha H. Williams

Lisa S. Wilson

Nancy R. Wiltshire

Sheila D. Wright

This document does not meet the Treasury's criteria for significant regulations.

Sharnetta A. Walton,
Director, Office of Executive Services, Internal Revenue Service.

[FR Doc. 2022-18019 Filed 8-19-22; 8:45 am]

BILLING CODE P